DEPARTMENT OF ENERGY

Federal Energy Regulatory Commission

[Project No. 184-065 California]

El Dorado Irrigation District; Notice of Site Visit

July 23, 2002.

On August 15 and August 16, 2002, the Office of Energy Projects Staff (Staff) and the applicant will conduct an on-site visit of the El Dorado Project located on the South Fork of the American River in El Dorado, Alpine, and Amador Counties, California. On both days, the site visit will begin at 8:30 a.m, meeting at Harvey's Casino Hotel on Route 50 at Stateline Avenue, in Stateline, Nevada.

All interested parties and individuals are welcome to attend both days of the site visit. Group transportation by van or bus is planned; therefore, those planning to attend need to contact Susan O'Brien at (202) 219-2840 or susan.obrien@ferc.gov as soon as possible, but no later than August 1, 2002. Individuals who do not contact Ms. O'Brien by this date may have to provide their own transportation.

Tentative schedule for site visit (times given are in Pacific Daylight Savings):

Thursday, August 15

8:30 am:

Site Visit Group departs from Harvey's Hotel in Stateline, NV

morning:

Canal: tour stops at diversion dam, tunnel portal, canal viewpoints along Highway 50

lunch:

in Placerville, CA

afternoon:

Tour of forebay, powerhouse

4 pm:

Return to hotel, stops at Horsetail falls (Pyramid Creek) or other points, as time and interest allows

Friday, August 16

8:30 am:

Site Visit Group departs from Harvey's Hotel in Stateline, NV

morning:

Tour of Caples Lake, Caples Creek area

lunch:

at Silver Lake/Kirkwood, Ca

afternoon:

Tour of Silver lake area, then Echo Lake area

4 pm:

Leave for hotel 4:30 pm:—Arrive at hotel—end tour

This schedule is tentative and may change. If anyone would like to meet up with the site visit group for only a part of the site visit, please contact Ms. O'Brien in advance so that this can be arranged.

Linwood A. Watson, Jr.,
Deputy Secretary.

[FR Doc. 02-19037 Filed 7-26-02; 8:45 am]

BILLING CODE 6717-01-P